DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 2, 2009.

Interested persons are invited to submit written comments regarding the subject matter of the investigations to the Director, Division of Trade Adjustment Assistance, at the address shown below, not later than October 2, 2009.

The petitions filed in this case are available for inspection at the Division of Trade Adjustment Assistance, Employment and Training Administration, U.S. Department of Labor, Room N-5428, 200 Constitution Avenue, NW., Washington, DC 20210.

Signed at Washington, DC, this 31st day of August 2009.
Linda G. Poole,
Certifying Officer, Division of Trade Adjustment Assistance.

Appendix
TAA Petitions Instituted Between 8/17/09 and 8/21/09
TA-W | Subject firm (petitioners) | Location | Date of institution | Date of petition
72039 | PolyVision, Corporation (Union) | Dixonville, PA | 08/17/09 | 08/13/09
72040 | Therm-O-Disc, Inc. (Comp) | Mansfield, OH | 08/17/09 | 08/10/09
72041 | Aleris Blanking and Rim Products (Wkrs) | Terre Haute, IN | 08/17/09 | 08/14/09
72042 | Align Technology Inc. (Wkrs) | Santa Clara, CA | 08/17/09 | 08/13/09
72043 | Carmeuse Industrial Sands (Union) | Glenford, OH | 08/17/09 | 08/13/09
72044 | Kaiser Aluminum (Comp) | Tulsa, OK | 08/17/09 | 05/26/09
72045 | Bardfield (Wkrs) | Miami, FL | 08/17/09 | 08/13/09
72046 | The Miami Herald Media Company (Wkrs) | Miami, FL | 08/17/09 | 08/13/09
72047 | Mark II Engineering, Inc. (Comp) | Medley, FL | 08/17/09 | 08/13/09
72048 | FLSmidth (Wkrs) | Bethlehem, PA | 08/17/09 | 08/14/09
72049 | Tennant Co. (State) | Maple Grove, MN | 08/17/09 | 08/14/09
72050 | Automotive Components Holdings-LLC (Comp) | Sandusky, OH | 08/17/09 | 08/14/09
72051 | Jacobs Chuck Mfg. Co (Comp) | Clemson, SC | 08/17/09 | 08/14/09
72052 | EOS Technologies, INC (Comp) | Tucson, AZ | 08/18/09 | 08/17/09
72053 | Allied Air Enterprise (Comp) | Blackville, SC | 08/18/09 | 08/18/09
72054 | Intermec Technologies (State) | Everett, WA | 08/18/09 | 08/17/09
72055 | Finisar (Comp) | Allen, TX | 08/18/09 | 08/17/09
72056 | The ESAB Group Inc. (Comp) | Florence, SC | 08/18/09 | 08/17/09
72057 | Saint-Gobain (USW) | Buckhannon, WV | 08/18/09 | 08/17/09
72058 | Gardner Denver-Thomas Products Division (IBEW) | Sheboygan, WI | 08/18/09 | 08/13/09
72059 | Quebecor World Premedia (State) | New York, NY | 08/18/09 | 08/16/09
72060 | Mahle Inc. (Wkrs) | Morristown, TN | 08/18/09 | 08/11/09
72061 | Butler Manufacturing (Wkrs) | Peoria, IL | 08/18/09 | 08/12/09
72062 | Manpower at IBM (Wkrs) | Mechanicsburg, PA | 08/18/09 | 08/06/09
72063 | Outokumpu Stainless (Union) | New Castle, IN | 08/18/09 | 08/17/09
72064 | MDL Corporation (Wkrs) | Langhome, PA | 08/19/09 | 08/11/09
72065 | Trinity Rail, Inc. (Wkrs) | Longview, TX | 08/19/09 | 07/21/09
72066 | A.S.C. Industries (Wkrs) | North Canton, OH | 08/19/09 | 08/10/09
72067 | Raven NC LLC (Wkrs) | Smithfield, NC | 08/19/09 | 08/14/09
72068 | Exotics by Bacon (Comp) | Thomasville, NC | 08/19/09 | 08/12/09
72069 | Rennoc Corporation (Comp) | Vineland, NJ | 08/19/09 | 08/18/09
72070 | American Express (Wkrs) | Phoenix, AZ | 08/19/09 | 06/23/09
72071 | Laird Technologies (Comp) | Earth City, MO | 08/19/09 | 08/18/09
72072 | Byer California (Wkrs) | San Francisco, CA | 08/19/09 | 08/11/09
72073 | Spherion Corporation (Comp) | Mechanicsburg, PA | 08/19/09 | 08/17/09
72074 | Sourcecorp (Wkrs) | Monticello, KY | 08/19/09 | 08/12/09
72075 | Assembly & Test Worldwide (Comp) | Dayton, OH | 08/19/09 | 08/10/09
72076 | Hapag-Lloyd Shipping Company (State) | Piscataway, NJ | 08/19/09 | 08/18/09
72077 | Perry Slingsby Systems, Inc. (State) | Jupiter, FL | 08/19/09 | 08/18/09
72078 | Advance Auto Parts (Wkrs) | Roanoke, VA | 08/19/09 | 08/18/09
72079 | General Motors (Comp) | Miramar, FL | 08/19/09 | 08/06/09
72080 | Day International—Flint Group, North America (Wkrs) | Arden, NC | 08/19/09 | 08/08/09
72081 | General Electric Healthcare—GE Healthcare (State) | Barrington, IL | 08/19/09 | 08/03/09
72082 | Exotics by Bacon (Wkrs) | Thomasville, NC | 08/20/09 | 08/12/09
72083 | Hutchinson Technology (Comp) | Sioux Falls, SD | 08/20/09 | 08/19/09
72084 | Plumbers Local 98 (Union) | Madison Heights, MI | 08/20/09 | 08/11/09
72085 | Eley Corp (Wkrs) | Lincoln, NE | 08/20/09 | 08/18/09
72086 | Comfil Farr (Wkrs) | Shawnee, OK | 08/20/09 | 08/10/09
72087 | Cross Country Staffing (State) | Boca Raton, FL | 08/20/09 | 08/18/09
72088 | Active USA Inc. (Wkrs) | Springfield, OH | 08/20/09 | 08/10/09
72089 | Hyde Park Foundry—Akers National Roll (Comp) | Avonmore, PA | 08/20/09 | 08/18/09
72090 | Burly Bear Inc. (Comp) | Hickory, NC | 08/20/09 | 08/19/09
72091 | CML Innovative Technologies (State) | Hackensack, NJ | 08/20/09 | 08/19/09
72092 | American Permanent Ware (Comp) | Dallas, TX | 08/20/09 | 08/19/09
72093 | Atlantic Guest (State) | Berlin, CT | 08/20/09 | 08/19/09
72094 | Schaefer Marine, Inc. (Wkrs) | New Bedford, MA | 08/20/09 | 08/15/09
72095 | Store Kraft Company (State) | Beatrice, NE | 08/20/09 | 08/18/09
72096 | Amphenol-Jaybeam (Wkrs) | Hickory, NC | 08/21/09 | 08/14/09
72097 | Smurfit-Stone Container (Comp) | Murfreesboro, TN | 08/21/09 | 08/19/09
72098 | JTEKT Automotive Virginia Inc. (Comp) | Daleville, VA | 08/21/09 | 08/20/09
72099 | Motorola, Inc/Government and Public Safety Division (Auth) | Schaumburg, IL | 08/21/09 | 08/20/09
72100 | TRG Customer Solutions (State) | Bend, OR | 08/21/09 | 08/20/09
72101 | PGI Manufacturing, LLC (Wkrs) | Rockford, IL | 08/21/09 | 08/19/09

[FR Doc. E9-22758 Filed 9-21-09; 8:45 am]

BILLING CODE 4510-FN-P